DEPARTMENT OF DEFENSE

Department of the Army

[Docket ID: USA-2021-HQ-0017]

Proposed Collection; Comment Request

AGENCY: U.S. Army Corps of Engineers, Department of the Army, Department of Defense (DoD).

ACTION: Information collection notice.

SUMMARY: In compliance with the Paperwork Reduction Act of 1995, the U.S. Army Corps of Engineers announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 20, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to The U.S. Army Corps of Engineers-Sacramento District, Bountiful Utah Regulatory Field Office, 533 West 2600 South, Suite 150, Bountiful, Utah 84010, ATTN: Mr. Matthew Wilson, or call 801-295-8380.

SUPPLEMENTARY INFORMATION:

Title; Associated Form; and OMB Number: Ordinary High Water Mark Field Identification Datasheet; OMB Control Number 0710-XXXX.

Needs and Uses: The U.S. Army Corps of Engineers, through its Regulatory Program, regulates certain activities in waters of the United States. Waters of the United States are defined under 33 CFR part 328. In order for the Corps to determine the amount and extent of waters of the United States at a site, aquatic resources must be geographically delineated in accordance with established Regulatory regulations, policy, and guidance. Non-tidal, non-wetland waters of the United States, which are defined in 33 CFR part 328, must be delineated to the extent of the ordinary high water mark (OHWM), which is defined at 33 CFR 328.3(7). The OHWM defines the lateral extent of non-tidal aquatic features in the absence of adjacent wetlands in the United States. The U.S. Army Corps of Engineers Engineer Research and Development Center (ERDC) has drafted the first national manual that provides and describes indicators and a methodology which will help improve consistency in the identification and delineation of the OHWM by (1) providing consistent definitions of OHWM indicators; (2) outlining a clear, step-by-step process for identifying the OHWM using a Weight-of-Evidence approach; and (3) providing a datasheet for logging information at a site. Information collected on OHWM datasheets help inform the lateral limits of the Corps' jurisdiction in non-tidal, non-wetland aquatic resources (e.g., streams or rivers). This information can then be used to inform jurisdictional determinations or permit evaluations. Applicants for Corps permits are generally required to submit delineations of aquatic resources as part of their permit application or in support of the permit evaluation process. The OHWM form will provide applicants with a tool to easily document and submit this information in a consistent format.

Affected Public: Individuals or households.

Annual Burden Hours: 7500.17.

Number of Respondents: 45,001.

Responses per Respondent: 1.

Annual Responses: 45,001.

Average Burden per Response: 10 minutes.

Frequency: As Required.

The OHWM is identified through physical characteristics that correspond to a break in bank slope, transition in vegetation type and coverage, and changes in sediment characteristics. As such, the datasheet organizes OHWM indicators into four categories: Geomorphic indicators, vegetation indicators, sediment indicators, and ancillary indicators. Recognizing that streams are highly complex systems, space is provided to include additional indicators that may be particular to certain regions or channel types. The datasheet and field procedure guide users through the step-by-step process of identifying and documenting the OHWM in a more consistent, reliable, and repeatable manner. The OHWM form organizes the information into a logical and consistent format, and makes use of checkboxes and data entry prompts to ensure all of the necessary information to document the OHWM is provided as necessary in a manner that minimizes data entry for respondents.

Dated: July 14, 2021.
Aaron T. Siegel,
Alternate OSD Federal Register Liaison Officer, Department of Defense.

[FR Doc. 2021-15373 Filed 7-19-21; 8:45 am]

BILLING CODE 5001-06-P